DEPARTMENT OF ENERGY

Federal Energy Regulatory Commission

[Docket No. AD07-7-000]

Conference on Competition in Wholesale Power Markets; Supplemental Notice of Conference

April 19, 2007.

As announced in the Notice of Conference issued on March 23, 2007,¹ the Federal Energy Regulatory Commission will hold a conference on Tuesday, May 8, 2007, to examine specific topics relating to the state of wholesale power markets. The conference will be held in the Commission Meeting Room at the Federal Energy Regulatory Commission, 888 First Street, NE., Washington, DC, from 9 a.m. to 5 p.m. Eastern time. The conference will be open for the public to attend and advance registration is not required. Members of the Commission may attend the conference.

¹ 72 Fed. Reg. 14,801 (March 29, 2007).

The agenda for this conference is attached, and contains questions the panelists will be asked to address. If any changes to the agenda occur, a revised agenda will be posted on the calendar page for this event on the Commission's Web site, http://www.ferc.gov, prior to the event.

Transcripts of the conference will be immediately available from Ace Reporting Company (202-347-3700 or 1-800-336-6646) for a fee. They will be available for the public on the Commission's eLibrary system seven calendar days after FERC receives the transcript.

A free webcast of this event will be available through www.ferc.gov. Anyone with Internet access who desires to view this event can do so by navigating to www.ferc.gov's Calendar of Events and locating this event in the Calendar. The event will contain a link to its Web cast. The Capitol Connection provides technical support for the Web casts. It also offers access to this event via television in the Washington, DC area and via phone bridge for a fee. Visit http://www.CapitolConnection.org or contact Danelle Perkowski or David Reininger at the Capitol Connection 703-993-3100 for information about this service.

Commission conferences are accessible under section 508 of the Rehabilitation Act of 1973. For accessibility accommodations please send an e-mail to accessibility@ferc.gov or call toll free 866-208-3372 (voice) or 202-208-1659 (TTY), or send a FAX to 202-208-2106 with the required accommodations.

For further information on the technical conference, please contact: Robert Hellrich-Dawson (Technical Information), Office of Markets, Tariffs and Rates, Federal Energy Regulatory Commission, 888 First Street, NE., Washington, DC 20426, (202) 502-6360, robert.hellrich-dawson@ferc.gov.

Kimberly D. Bose,
Secretary.

2

[FR Doc. E7-7869 Filed 4-24-07; 8:45 am]

BILLING CODE 6717-01-P